DEPARTMENT OF ENERGY

Office of Energy Efficiency and Renewable Energy

Golden Field Office; Notice of Issuance of Supplemental Announcement.

AGENCY: The Department of Energy (DOE).

ACTION: Notice of issuance of supplemental announcement.

SUMMARY: The U. S. Department of Energy (DOE) pursuant to the DOE Financial Assistance Rules, 10 CFR 600.8, is announcing its intention to solicit Applications under this Supplemental Announcement 08, titled “Enhancing Economic Viability and Long-term Sustainability of Operating Geothermal Power Plants” of the Fiscal Year 2001 Broad-based Solicitation for Submission of Financial Assistance Applications Involving Research, Development and Demonstration, DE-PS36-01GO90000. The Financial Assistance award(s) resulting from this Supplemental Announcement will be cooperative agreement(s).

DATES: DOE expects to issue the Supplemental Announcement in mid-August, 2001.

ADDRESSES: To obtain a copy of the Supplemental Announcement and the Broad-based Solicitation once it is issued, interested parties must access the DOE Golden Field Office Home Page at http://www.golden.doe.gov/businessopportunities.html under “Solicitations”, then locate the Solicitation number and Supplemental Announcement number. DOE does not intend to issue written copies of the solicitation.

FOR FURTHER INFORMATION CONTACT: Ruth E. Adams, Contracting Officer, DOE Golden Field Office, 1617 Cole Boulevard, Golden, CO 80401-3393 or via Facsimile to Ruth E. Adams at 303-275-4788 or electronically to Ruth_Adams@nrel.gov. Responses to questions will be made by Amendment and posted on the DOE Golden Field Office Home Page.

SUPPLEMENTARY INFORMATION: DOE is seeking applications from a team that includes geothermal power plant operators, owners, and assessors for plant-wide assessments that will lead to substantial improvements in energy output, conversion efficiency, parasitic power reduction, and long-term sustainability. The goal in supporting such plant assessments is to develop case studies, which illustrate the benefits of adopting a plant-wide systems approach strategy across an entire production facility.

Geothermal Power plant applicant teams that take a comprehensive, plant-wide, systems approach to increasing energy conversion efficiency, production capacity, and improving sustainability are of interest. Specifically, proposals are sought where teams are considering the adoption of best available and emerging technologies using a variety of tools, information, process engineering techniques, and support systems. We anticipate that the plant would conduct the assessment by initially profiling the entire plant's energy requirements and energy-intensive processes. This would be conducted in the form of an energy audit using state-of-the-art process modeling tools. Further assessment would then focus on specific components or systems that would offer the largest cost savings and return on investment. Assessment methodologies and strategies that aim to discover opportunities where the plant's investment in energy conversion efficiency and capacity are maximized will be of most interest.

Applications submitted by Federally Funded Research and Development Centers (FFRDC's), as defined by Federal Acquisition Regulation (FAR) 35.017, will not be considered for award.All questions concerning this Supplemental Announcement must be submitted in writing to Ruth E. Adams, Contracting Officer, at the locations specified under the contact for further information above.

Issued in Golden, Colorado, on August 9, 2001.
Jerry L. Zimmer,
Procurement Director, Golden Field Office.

[FR Doc. 01-20772 Filed 8-16-01; 8:45 am]

BILLING CODE 6450-01-P